DEPARTMENT OF TRANSPORTATION

National Highway Traffic Safety Administration

[Docket No. NHTSA-2004-19991; Notice 1]

Coupled Products, Inc., Receipt of Petition for Decision of Inconsequential Noncompliance

Coupled Products, Inc. (Coupled Products) has determined that certain hydraulic brake hose assemblies that it produced do not comply with S5.3.4 and S5.3.6 of 49 CFR 571.106, Federal Motor Vehicle Safety Standard (FMVSS) No. 106, “Brake hoses.” Coupled Products has filed an appropriate report pursuant to 49 CFR part 573, “Defect and Noncompliance Reports.”

Pursuant to 49 U.S.C. 30118(d) and 30120(h), Coupled Products has petitioned for an exemption from the notification and remedy requirements of 49 U.S.C. Chapter 301 on the basis that this noncompliance is inconsequential to motor vehicle safety.

This notice of receipt of Coupled Product's petition is published under 49 U.S.C. 30118 and 30120 and does not represent any agency decision or other exercise of judgment concerning the merits of the petition.

A total of approximately 7,417 brake hose assemblies are affected, utilizing a fitting identified as Part Number 12271 which was incorporated into 6,075 assemblies bearing Part Number 3381 and 1,244 assemblies bearing Part Number 3381A; plus 98 assemblies bearing a fitting with Part Number 380653.

S5.3.4 of FMVSS No. 106, tensile strength, requires that “a hydraulic brake hose assembly shall withstand a pull of 325 pounds without separation of the hose from its end fittings.” S5.3.6 of FMVSS No. 106, water absorption and tensile strength, requires that “a hydraulic brake hose assembly, after immersion in water for 70 hours, shall not rupture when run continuously on a flexing machine for 35 hours.”

The potentially affected hoses were manufactured during the time period of January 30, 2004 through September 10, 2004, using a “straight cup” procedure rather than the appropriate “step cup” procedure. Coupled Products states that these hoses were sold for original equipment applications. Compliance testing by the petitioner of sample hose assemblies from each of the affected part numbers revealed that they failed the tensile strength test, and also failed the water absorption and tensile strength test.

Coupled Products believes that the noncompliance is inconsequential to motor vehicle safety and that no corrective action is warranted. The petitioner states the following:

Part number 12217 is used in assemblies for SUV and pick-up truck applications. Part number 380653 is utilized for suspension lift kits. * * * [T]he hose assemblies in these applications are located in a location that is above significant pieces of vehicle hardware including the driveshaft, differential case, and fuel tank (Hardware). This configuration is such that a linear, end-to-end “straight pull” on the hose assembly, as that contained in the FMVSS No. 106 tensile strength test procedure, is not a real-life scenario. Rather than a “straight pull,” it is more likely (albeit remote) that the free length of the hose itself could be entangled or caught on a piece of road debris or other obstruction, resulting in a “side pull” on the assembly. This scenario itself is remote because the underlying hardware shields the hose assembly. Therefore, if debris were to become entangled in the hose assembly, it would first have to bypass the Hardware. If that were to occur, the impact would need to be so great as to make the concern of braking potential irrelevant.

Despite the fact that tensile stress on the assembly is an unlikely real life scenario, to assess the impact of this unlikely scenario, petitioner conducted a side pull tensile test on a sample of the subject brake hose assemblies to simulate the possible effect of a side pull on the integrity of the hose assembly. * * * The “side pull” test results show that the tensile load achieved prior to the ends separating from the hose exceeded 538 pounds in each of the samples analyzed for tensile results—well in excess of the 325 pound requirement.

Coupled Products states that in other cases NHTSA determined that a FMVSS No. 106 noncompliance is inconsequential where, because of the specific vehicle application involved, the hose assembly would not be subject to the type of forces specified in the standard. Coupled Product says:

See, e.g., General Motors Grant of Petition * * * 57 FR 1511 (January 14, 1992) (granting petition with respect to adhesion test noncompliance because, among other reasons, the “end use of the hoses was such that they were subject to pressure, not vacuum applications”), and Mitsubishi Motors America Grant of Petition * * * 57 FR 45868 (October 5, 1992) (same).

Coupled Products further states:

Because the braking system on the vehicles in question utilizes a dual chamber master cylinder, any failure of the hose assembly due to excessive tensile force—unlikely as that may be—will not result in a loss of braking capability of the vehicle. Depending on the assembly affected, front or rear braking capability would still exist, although additional stopping distance might be required. Furthermore, the vehicle's emergency braking system would also exist.

Couple Products indicates that the problem has been corrected.

Interested persons are invited to submit written data, views, and arguments on the petition described above. Comments must refer to the docket and notice number cited at the beginning of this notice and be submitted by any of the following methods. Mail: Docket Management Facility, U.S. Department of Transportation, Nassif Building, Room PL-401, 400 Seventh Street, SW., Washington, DC 20590-0001. Hand Delivery: Room PL-401 on the plaza level of the Nassif Building, 400 Seventh Street, SW., Washington, DC. It is requested, but not required, that two copies of the comments be provided. The Docket Section is open on weekdays from 10 a.m. to 5 p.m. except Federal holidays. Comments may be submitted electronically by logging onto the Docket Management System Web site at http://dms.dot.gov. Click on “Help” to obtain instructions for filing the document electronically. Comments may be faxed to 1-202-493-2251, or may be submitted to the Federal eRulemaking Portal: go to http://www.regulations.gov. Follow the online instructions for submitting comments.

The petition, supporting materials, and all comments received before the close of business on the closing date indicated below will be filed and will be considered. All comments and supporting materials received after the closing date will also be filed and will be considered to the extent possible. When the petition is granted or denied, notice of the decision will be published in the Federal Register pursuant to the authority indicated below.

Comment closing date: February 14, 2005.

Authority: 49 U.S.C. 30118, 30120: delegations of authority at CFR 1.50 and 501.8.

Issued on: January 10, 2005.
Claude H. Harris,
Director, Office of Vehicle Safety Compliance.

[FR Doc. 05-859 Filed 1-13-05; 8:45 am]

BILLING CODE 4910-59-P